NATIONAL SCIENCE FOUNDATION

Advisory Committee for Computer and Information Science and Engineering; Notice of Meeting

In accordance with the Federal Advisory Committee Act (Pub. L. 92-463, as amended), the National Science Foundation (NSF) announces the following meeting:

NAME AND COMMITTEE CODE: Advisory Committee for Computer and Information Science and Engineering (CISE) (1115).

DATE AND TIME: December 11, 2018: 8:30 a.m. to 4:30 p.m.

PLACE: National Science Foundation, 2415 Eisenhower Avenue, Room E2030, Alexandria, VA 22314.

TYPE OF MEETING: Open.

CONTACT PERSON: KaJuana Mayberry, National Science Foundation, 2415 Eisenhower Avenue, Alexandria, VA 22314; Telephone: 703-292-8900.

PURPOSE OF MEETING: To advise NSF on the impact of its policies, programs and activities on the CISE community. To provide advice to the Assistant Director for CISE on issues related to long-range planning, and to form ad hoc subcommittees and working groups to carry out needed studies and tasks.

AGENDA:

• NSF and CISE updates

• Discussion on NSF and CISE activities in Artificial Intelligence

• Discussion on NSF Big Ideas and Convergence Accelerators

Dated: November 14, 2018.
Crystal Robinson,
Committee Management Officer.

[FR Doc. 2018-25119 Filed 11-16-18; 8:45 am]

BILLING CODE 7555-01-P